DEPARTMENT OF HEALTH AND HUMAN SERVICES

National Institutes of Health

National Cancer Institute; Amended Notice of Meeting

Notice is hereby given of a change in the meeting of the National Cancer Institute Special Emphasis Panel, March 22, 2012, 8 a.m. to March 23, 2012, 5 p.m., Bethesda North Marriott Hotel & Conference Center, 5701 Marinelli Road, Bethesda, MD 20852 which was published in the Federal Register on December 9, 2011, 76 FR 76981.

This notice is being amended to change the ending time and date from 5 p.m. March 23, 2012 to 6 p.m. March 22, 2012. The meeting is closed to the public.

Dated: February 27, 2012.
Jennifer S. Spaeth,
Director, Office of Federal Advisory Committee Policy.

[FR Doc. 2012-5288 Filed 3-2-12; 8:45 am]

BILLING CODE 4140-01-P